DEPARTMENT OF ENERGY

Federal Energy Regulatory Commission

[Docket No. IS13-17-000]

Enbridge Energy, Limited Partnership; Notice of Technical Conference

The Commission's December 20, 2012 Order in the above-captioned proceeding ¹ directed that a technical conference be held to address issues raised by Enbridge Energy, Limited Partnership's proposed revision to its downstream Nomination Verification Procedure.

¹ Enbridge Energy, Limited Partnership, 141 FERC ¶ 61,246 (2012).

Take notice that a technical conference will be held on Wednesday, February 6, 2013, at 9:30 a.m., in a room to be designated at the offices of the Federal Energy Regulatory Commission, 888 First Street NE., Washington, DC 20426.

FERC conferences are accessible under section 508 of the Rehabilitation Act of 1973. For accessibility accommodations please send an email to accessibility@ferc.gov or call toll free (866) 208-3372 (voice) or 202-502-8659 (TTY), or send a fax to 202-208-2106 with the required accommodations.

All interested persons are permitted to attend. For further information please contact Andrew Knudsen at (202) 502-6527 or email Andrew.Knudsen@ferc.gov.

Dated: January 11, 2013.
Nathaniel J. Davis, Sr.,
Deputy Secretary.

[FR Doc. 2013-00891 Filed 1-16-13; 8:45 am]

BILLING CODE 6717-01-P